DEPARTMENT OF ENERGY

Energy Information Administration

Agency Information Collection Activities: Request for Emergency Review by the Office of Management and Budget

AGENCY: Energy Information Administration, Department of Energy.

ACTION: Agency information collection activities: Request for emergency review by the Office of Management and Budget.

SUMMARY: The Energy Information Administration (EIA) has submitted the energy information collection listed at the end of this notice to the Office of Management and Budget (OMB) for emergency processing under provisions of the Paperwork Reduction Act of 1995 (Pub. L. 104-13) (44 U.S.C. 3501 et seq.) by Monday, May 22, 2000. The reason for this emergency clearance request is to obtain data from customers whose natural gas shipments may have been interrupted during December 1999, and January and February 2000. The data are needed for responding to requests from the Secretary of Energy and Congress by the end of July 2000, regarding the impact of interruptible natural gas contracts on home heating oil supplies in the Northeastern United States during December 1999, and January and February 2000.

The Supplementary Information contains the following: (1) The collection number and title; (2) a summary of the collection of information, which includes the sponsor (i.e., the DOE component), current OMB document number (where applicable), type of request (new, revision, extension, or reinstatement), response obligation (mandatory, voluntary, or required to obtain or retain benefits); (3) a description of the need and proposed use of the information; (4) a description of the likely respondents; and (5) an estimate of the total annual reporting burden (i.e., the estimated number of likely respondents, times the proposed frequency of response per year, times the average hours per response).

DATES: Comments must be filed by Friday, May 19, 2000.

ADDRESSES: Address comments to the Mr. Erik Godwin, Department of Energy Desk Officer, Office of Information and Regulatory Affairs, Office of Management and Budget, 726 Jackson Place N.W., Washington, DC 20503. (Mr. Godwin may be reached by telephone at (202) 395-3084. Comments should also be addressed to the Statistics and Methods Group at the address immediately below.)

FOR FURTHER INFORMATION CONTACT: Requests for additional information should be directed to Herbert Miller, Statistics and Methods Group, (EI-70), Forrestal Building, U.S. Department of Energy, Washington, DC 20585-0670. Mr. Miller may be contacted by telephone at (202) 426-1103, FAX at (202) 426-1081, or e-mail at Herbert.Miller@eia.doe.gov.

SUPPLEMENTARY INFORMATION: The energy information collection submitted to OMB for review is:

1. EIA-904, “Fuel Used to Replace Natural Gas During Natural Gas Service Interruptions in the Northeast.”

2. The Energy Information Administration plans to collect information from up to 400 companies whose supply of natural gas may have been interrupted during December 1999, or January or February 2000. The form will request information on natural gas and liquid fuel purchases; natural gas and liquid fuels consumed in the period; and fuel storage capacity and inventories. This is a new survey and a new OMB number is being requested. The response obligation will be mandatory.

3. The data will be collected, then summarized and analyzed, and, thereafter, be used for responding to a request from the Secretary of Energy and Congress regarding the level and extent of natural gas interruptions in the Northeastern United States, during December 1999, and January and February 2000.

4. Respondents will be customers of local distribution companies and pipeline companies with interruptible service contracts. These customers may have had their supply of natural gas interrupted, during December 1999, or January or February 2000. The companies were identified by collecting information from natural gas local distribution companies and natural gas pipeline companies in the Northeastern United States.

5. The reporting burden is expected to be 2400 hours (400 respondents × 1 response × 6 hours).

Statutory Authority: Sections 3506(c) and 3507(j) of the Paperwork Reduction Act of 1995 (Pub. L. No. 104-13).

Issued in Washington, DC May 12, 2000.
Jay H. Casselberry,
Agency Clearance Officer, Statistics and Methods Group, Energy Information Administration.

[FR Doc. 00-12499 Filed 5-16-00; 8:45 am]

BILLING CODE 6450-01-P